DEPARTMENT OF LABOR

Office of the Secretary

Submission for OMB Review; Comment Request

August 14, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 219-5096 ext. 159 or by E-mail to Kurz-Karin@dol.gov). To obtain documentation for ESA, MSHA, OSHA, and VETS contact Darrin King ((202) 219-5096 ext. 151 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Reinstatement, with change, of a previously approved collection for which approval has expired.

Agency: Employment and Training Administration.

Title: Job Corps Health Questionnaire.

OMB Number: 1205-0033.

Affected Public: Individuals or households; business or other for-profit; not-for-profit institutions; State, Local, or Tribal Government; Federal Government.

Form Number: ETA 6-53.

Frequency: Once per applicant.

Number of Respondents: 93,000.

Total Annual Responses: 93,000.

Estimated Time Per respondent: 5 Minutes.

Total Burden: 7,750 Hours.

Total annualized capital/startup costs: $0.

Total annual costs (operating/maintaining systems or purchasing services): $0.

Description: The Job Corps health questionnaire is used to obtain information on previous and present health needs of the applicant. The information is obtained in an interview by the admissions counselor and helps determine the health and accommodation/modification needs of the Job Corps applicant.

Type of Review: Extension of a previously approved collection.

Agency: Employment and Training Administration.

Title: Occupational Code Request.

OMB Number: 1205-0137.

Affected Public: State, Local, or Tribal government; Federal Government.

Form Number: ETA 741.

Frequency: On Occasion.

Number of Respondents: 95.

Total Annual Responses: 95.

Estimated Time Per respondent: 30 minutes.

Total Burden: 47 Hours.

Total annualized capital/startup costs: $0.

Total annual costs (operating/maintaining systems or purchasing services): $0.

Description: The form ETA-741, Occupational Code Request (OCR), is provided as a public service to the States to obtain occupational codes and titles for job not included in the Dictionary of Occupational Titles.

Ira L. Mills,
Departmental Clearance Officer.

[FR Doc. 00-21329 Filed 8-21-00; 8:45 am]

BILLING CODE 4510-22-M